DEPARTMENT OF THE TREASURY

Senior Executive Service; Departmental Offices Performance Review Board

AGENCY: Treasury Department.

ACTION: Notice of members of the Departmental Offices Performances Review Board.

SUMMARY: This notice announces the appointment of members of the Departmental Offices Performance Review Board (PRB). The purpose of this Board is to review and make recommendations concerning proposed performance appraisals, ratings, bonuses and other appropriate personnel actions for incumbents of SES positions in the Departmental Offices, excluding the Legal Division. The Board will perform PRB functions for other bureau positions if requested.

DATES: Membership is effective on the date of this notice.

FOR FURTHER INFORMATION CONTACT: Julia J. Markham or Kimberly Jackson, Office of Executive Resources, 1500 Pennsylvania Avenue NW, ATTN: 1722 Eye Street, 9th Floor, Washington, DC 20220, Telephone: 202-622-0774.

Composition of Departmental Offices PRB: The Board shall consist of at least three members. In the case of an appraisal of a career appointee, more than half the members shall consist of career appointees. The names and titles of the Board members are as follows:

Names for Federal Register Publication

• John Farley, Director, Executive Office for Asset Forfeiture

• Aimen Mir, Deputy Assistant Secretary for Investment Security

• Nancy Ostrowski, Director, Office of DC Pensions

• J. Trevor Norris, Deputy Assistant Secretary for Human Resources and Chief Human Capital Officer

• Michael Kaplan, Deputy Assistant Secretary, Western Hemisphere and South Asia

• Mark D. Sobel, Deputy Assistant Secretary, International Money and Financial Policy

• Ryan Law, DAS for Privacy, Transparency and Records

• Kathryn Malague, Director for Strategic Planning and Performance Improvement

• Luke Ballman, Deputy Assistant Secretary for Legislative Affairs

• Jennifer Fowler, Deputy Assistant Secretary for Terrorist Financing and Financial Crimes

• Sarah Runge, Director, Office of Strategic Policy for Terrorist Financing and Financial Crimes

• Daniel W. Moger, III, Director, Office of Global Affairs

• John H. Battle, Associate Director for Resource Management, Office of Foreign Assets Control

• Brian Peretti, Director for Critical Infrastructure Protection and Compliance Policy

• Douglas M. Bell, Deputy Assistant Secretary for Trade and Investment Policy

• Robert S. Dohner, Deputy Assistant Secretary for International Economic Analysis

• Gary Grippo, Deputy Assistant Secretary, Government Finance Policy

Dated: January 11, 2018.
Julia J. Markham,
Director, Office of Executive Resources.

[FR Doc. 2018-01270 Filed 1-24-18; 8:45 am]

BILLING CODE 4810-25-P